DEPARTMENT OF COMMERCE

United States Patent and Trademark Office

[Docket No. 000328087-0087-01]

RIN 0651-XX23

Reestablishment of the Patent and Trademark Office as the United States Patent and Trademark Office

AGENCY: United States Patent and Trademark Office, Commerce.

ACTION: Notice of reestablishment and adoption of seal.

SUMMARY: The Patent and Trademark Office Efficiency Act reestablishes the Patent and Trademark Office as the United States Patent and Trademark Office (USPTO), an agency of the United States, within the Department of Commerce. USPTO will continue to issue patents, register trademarks, and disseminate information about patents and trademarks under the policy direction of the Secretary of Commerce, but will otherwise exercise independent control of its budget allocations and expenditures, personnel decisions and processes, procurements, and other administrative and management functions. This notice will explain some key aspects of USPTO's new functions and authorities.

EFFECTIVE DATE: March 29, 2000.

ADDRESSES: Director of the United States Patent and Trademark Office, Washington, D.C. 20231.

FOR FURTHER INFORMATION CONTACT: Richard Torczon, 703-305-9035.

SUPPLEMENTARY INFORMATION: The Patent and Trademark Office Efficiency Act (PTOEA) (Pub. L. 106-113, 113 Stat. 1501A-572) becomes effective March 29, 2000, and reestablishes the Patent and Trademark Office as an agency of the United States, within the Department of Commerce. The PTOEA transforms USPTO into a performance-based organization that uses quantitative and qualitative measures and standards for evaluating cost-effectiveness that are consistent with the principles of impartiality and competitiveness. Under the PTOEA, USPTO will continue to issue patents, register trademarks, and disseminate information about patents and trademarks under the policy direction of the Secretary of Commerce, but USPTO will exercise independent control over its budget allocations and expenditures, personnel decisions and processes, procurements, and other administrative and management functions. Some key aspects of the reestablishment of USPTO include:

1. New Titles

The head of USPTO is the “Under Secretary of Commerce for Intellectual Property and Director of the United States Patent and Trademark Office”. The Director is assisted by the “Deputy Under Secretary of Commerce for Intellectual Property and Deputy Director of the United States Patent and Trademark Office”.

The patent operations of USPTO are now headed by the “Commissioner for Patents”.

The trademark operations of USPTO are now headed by the “Commissioner for Trademarks”.

Under section 4741(b) of the PTOEA, any reference to the Commissioner of Patents and Trademarks, the Assistant Commissioner for Patents, or the Assistant Commissioner for Trademarks is deemed to refer to the Director, the Commissioner for Patents, or the Commissioner for Trademarks, respectively. Hence, until further notice, no change is necessary to any mailing procedure, form, or other document submitted to USPTO. Appropriate use of the new titles is acceptable as well.

2. Mailing Address

The mailing address remains the same, as reflected in the ADDRESSES section above. USPTO will accept mail addressed to either the Director of the United States Patent and Trademark Office or the Commissioner of Patents and Trademarks.

3. Continuity of Operations

Under subsection 4743(a) of the PTOEA, all orders, determinations, rules, regulations, permits, grants, loans, contracts, agreements, certificates, licenses, and privileges in effect on March 28, 2000, shall remain in effect with equal force. Similarly, under subsection 4743(b), all proceedings under way on March 28, 2000, shall continue. To this end, USPTO adopts all authorities, including rules, manuals, orders, and precedent, of the Patent and Trademark Office in effect on March 28, 2000. Until otherwise indicated, USPTO will continue to follow the Federal Acquisition Regulations and Department of Commerce regulations applicable to the Patent and Trademark Office on March 28, 2000.

USPTO may continue to use existing stocks of letterhead and other products.

5. Seal

USPTO adopts the following as its seal which shall be judicially noticed and with which letters patent, certificates of trademark registrations, and papers issued by USPTO shall be authenticated:

(Authority: Sec. 4712, Pub. L. 106-113, 113 Stat. 1501A-572 (35 U.S.C. 2(b)).)

Dated: March 30, 2000.
Q. Todd Dickinson,
Under Secretary of Commerce for Intellectual Property and Director of the United States Patent and Trademark Office.

[FR Doc. 00-8285 Filed 4-4-00; 8:45 am]

BILLING CODE 3510-16-P